DEPARTMENT OF HOMELAND SECURITY

Coast Guard

33 CFR Part 117

[USCG-2012-0509]

Drawbridge Operation Regulations; Reynolds Channel, Nassau, NY

AGENCY: Coast Guard, DHS.

ACTION: Notice of temporary deviation from regulations.

SUMMARY: The Commander, First Coast Guard District, has issued a temporary deviation from the regulations governing the operation of the Long Beach Bridge, mile 4.7, across Reynolds Channel, at Nassau, New York. This temporary deviation authorizes the Long Beach Bridge to remain in the closed position for two and a half hours to facilitate public safety during the Town of Hempstead Annual Salute to Veterans Fireworks Display.

DATES: This deviation is effective from 9:30 p.m. on June 30, 2012 through midnight on July 1, 2012.

ADDRESSES: Documents mentioned in this preamble as being available in the docket are part of docket USCG-2012-0509 and are available online at www.regulations.gov, inserting USCG-2012-0509 in the “Keyword” and then clicking “Search”. They are also available for inspection or copying at the Docket Management Facility (M-30), U.S. Department of Transportation, West Building Ground Floor, Room W12-140, 1200 New Jersey Avenue SE., Washington, DC, 20590, between 9 a.m. and 5 p.m., Monday through Friday, except Federal holidays.

FOR FURTHER INFORMATION CONTACT: If you have questions on this rule, call or email Ms. Judy Leung-Yee, Project Officer, First Coast Guard District, telephone (212) 668-7165, email judy.k.leung-yee@uscg.mil. If you have questions on viewing the docket, call Renee V. Wright, Program Manager, Docket Operations, telephone 202-366-9826.

SUPPLEMENTARY INFORMATION: The Long Beach Bridge, across Reynolds Channel, mile 4.7, at Nassau, New York, has a vertical clearance in the closed position of 20 feet at mean high water and 24 feet at mean low water. The existing drawbridge operation regulations are listed at 33 CFR 117.799(g).

The owner of the bridge, Nassau County Department of Public Works, requested a temporary deviation to facilitate safe traffic management for the Town of Hempstead Annual Salute to Veterans Fireworks Display scheduled for Saturday, June 30, 2012. If the fireworks display is postponed due to inclement weather, the event will take place on Sunday, July 1, 2012.

Under this temporary deviation the Long Beach Bridge may remain in the closed position from 9:30 p.m. through midnight on July 1, 2012. If the fireworks display is postponed due to inclement weather, the Long Beach Bridge may remain in the closed position from 9:30 p.m. through midnight on July 2, 2012.

The waterway has commercial and seasonal recreational vessels of various sizes. The Coast Guard contacted all known commercial waterway users regarding this deviation and no objections were received. Vessels that can pass under the bridge without a bridge opening may do so at all times.

In accordance with 33 CFR 117.35(e), the bridge must return to its regular operating schedule immediately at the end of the designated time period. This deviation from the operating regulations is authorized under 33 CFR 117.35.

Dated: June 7, 2012.
Gary Kassof,
Bridge Program Manager, First Coast Guard District.

[FR Doc. 2012-15199 Filed 6-20-12; 8:45 am]

BILLING CODE 9110-04-P